DEPARTMENT OF LABOR

Employment and Training Administration

[TA-W-55,606]

Siskiyou Gifts, Medford, OR; Notice of Termination of Investigation

Pursuant to Section 221 of the Trade Act of 1974, as amended, an investigation was initiated on September 14, 2004 in response to a petition filed by a company official on behalf of workers at Siskiyou Gifts, Medford, Oregon.

The petitioner has requested that the petition be withdrawn. Consequently, further investigation would serve no purpose and the investigation has been terminated.

Signed at Washington, DC this 24th day of September 2004.
Linda G. Poole,
Certifying Officer, Division of Trade Adjustment Assistance.

[FR Doc. 04-22802 Filed 10-8-04; 8:45 am]

BILLING CODE 4510-30-P